DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Community Mental Health Services Block Grant Application Guidance and Instructions, FY 2005-2007 (OMB No. 0930-0168, Revision)—Sections 1911 through 1920 of the Public Health Service Act (42 U.S.C. 300x through 300x-9) provide for annual allotments to assist States to establish or expand an organized, community-based system of care for adults with serious mental illness and children with serious emotional disturbances. Under the provisions of the law, States may receive allotments only after an application is submitted and approved by the Secretary of the Department of Health and Human Services.

For the Federal fiscal years 2005-2007 Community Mental Health Services Block Grant application cycles, SAMHSA will provide States with revised application guidance and instructions. Proposed revisions to the previously approved application include: (1) additional introductory text on the history and goals of Federal mental health funding and an orientation to the transition to Performance Partnerships Grants, (2) changes in the format of the plan, and (3) the introduction of 10 performance indicators as SAMHSA/CMHS Core Performance Indicators. Four of the ten (10) indicators are expected to be reported in the FY 2005 State plan. These indicators can be derived from the basic and developmental tables in the Uniform Reporting System (URS). If States are unable to collect and report the data for any of the tables from which the core indicators are constructed, the State Level Data Reporting Capacity Checklist should be completed. However, States are encouraged to complete and include in the plan all indicators that can be constructed from available data in the URS Tables. States will have three years to develop capacity to report on all of the performance indicators. CMHS anticipates that reporting the Core Performance Indicators will increase the State's burden by 15 hours per State. The following table summarizes the annual burden for the revised application.

Part of application | No. of respondents | Responses/respondent | Burden/response (hrs.) | Total burden hours
Plan—(Parts B and C):
1 year | 33 | 1 | 190 | 6,270
2 year | 12 | 1 | 160 | 1,920
3 year | 14 | 1 | 120 | 1,680
Implementation Report (Part D) | 59 | 1 | 85 | 5,015
Data Tables (Part E) | 59 | 1 | 40 | 2,360
Copy Plan and Report having more than 120 pages in length | 10 | 2 | 1 | 20
Total | 59 | 1 |  | 17,265

Written comments and recommendations concerning the proposed information collection should be sent by May 19, 2004, to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: April 13, 2004.
Anna Marsh,
Executive Officer, SAMHSA.

[FR Doc. 04-8758 Filed 4-16-04; 8:45 am]

BILLING CODE 4162-20-P